DEPARTMENT OF THE INTERIOR

Bureau of Reclamation

[RR84420000, 15XR0680R4, RX.19520003.9WOLMIS]

Privacy Act of 1974, as Amended; Notice To Delete an Existing System of Records

AGENCY: Bureau of Reclamation, Interior.

ACTION: Notice to delete an existing system of records.

SUMMARY: The Department of the Interior is issuing public notice of its intent to delete the Bureau of Reclamation Privacy Act system of records, Interior-WBR-50, Reclamation Law Enforcement Management Information System, from its existing inventory.

DATES: This deletion will be effective on September 3, 2015.

FOR FURTHER INFORMATION CONTACT: Deborah Suehr, Privacy Act Officer, Bureau of Reclamation, Denver Federal Center, 6th and Kipling, Bldg. 67, Denver, Colorado 80225; by telephone at (303) 445-3292; or by email at dsuehr@usbr.gov.

SUPPLEMENTARY INFORMATION: Pursuant to the provisions of the Privacy Act of 1974, 5 U.S.C. 552a, as amended, the Bureau of Reclamation (Reclamation) is deleting Interior-WBR-50 from its system of records inventory. A Federal Register notice was last published for this system of records on October 20, 2008 (73 FR 62314).

Reclamation has decommissioned records previously maintained within this system and migrated those records into the DOI-10, Incident Management, Analysis, and Reporting System, system of records as indicated in the public notice published in the Federal Register on June 3, 2014 (79 FR 31974). Deleting the Interior-WBR-50 system of records notice will have no adverse impacts on individuals as the records are covered under the Department-wide law enforcement system notice. Individuals may continue to seek access or correction to their records under the DOI-10 system of records notice. This deletion will also promote the overall streamlining and management of Department of the Interior Privacy Act systems of records.

Dated: July 9, 2015.
Bruce C. Muller, Jr.,
Director, Security, Safety, and Law Enforcement.

[FR Doc. 2015-21924 Filed 9-2-15; 8:45 am]

BILLING CODE 4332-90-P